DEPARTMENT OF LABOR

Office of the Secretary

Trade Act of 2002; Notice of Further Assignment of Functions

AGENCY: Office of the Secretary, Labor.

ACTION: The Secretary of Labor (Secretary) is further assigning functions under the Trade Act of 2002 (Trade Act) to other agencies and departments of the Executive Branch.

SUMMARY: The Trade Act specifically granted to the President certain authorities and assigned certain functions related to agreements covered by Trade Act provisions. In Executive Order 13277 (67 FR 7305), the President delegated certain authorities and assigned certain functions to the Secretary and provided guidance for exercising that authority and performing those functions, including the redelegation of authority and further assignment of functions to officers of any other department or agency within the Executive Branch. This notice informs the public of the Secretary's further assignment of functions. This order does not create any right or benefit, substantive or procedural, enforceable at law or equity by a party against the United States, its departments, agencies, instrumentalities or entities, its officers or employees, or any other person.

EFFECTIVE DATE: These actions are effective immediately.

FOR FURTHER INFORMATION CONTACT: Thomas B. Moorhead, Deputy Under Secretary for International Labor Affairs, U.S. Department of Labor, 200 Constitution Avenue, NW., Washington, DC 20210. Telephone: 202-693-4470. E-Mail: moorhead-thomas@dol.gov.

SUPPLEMENTARY INFORMATION: Further Assignment of Functions: Pursuant to section (3)(b)(ii) of Executive Order 13277, the Secretary hereby assigns the functions of the President under section 2102(c)(8) and (9) of the Trade Act to the Secretary of State and the United States Trade Representative, to be carried out by the Secretary of Labor, the Secretary of State and the United States Trade Representative. Agencies and departments to which these functions are assigned shall perform them in a manner that is supportive of agreements subject to the Trade Act.

Signed in Washington, DC, this 13th day of December, 2002.
Elaine L. Chao,
Secretary of Labor.

[FR Doc. 02-31950 Filed 12-18-02; 8:45 am]

BILLING CODE 4510-23-P